DEPARTMENT OF HEALTH AND HUMAN SERVICES

Administration for Children and Families

Award of a Single-source Program Expansion Supplement Grant to the Research Foundation of the State University of New York (SUNY) at Albany, NY, for the National Child Welfare Workforce Institute (NCWWI)

AGENCY: Children's Bureau, ACYF, ACF, HHS.

ACTION: Notice.

CFDA Number: 93.648.

Legislative Authority: Section 426(a)(1)(C) of the Social Security Act, as amended [42 U.S.C. 626(a)(1)(C)].

Amount of Award: $480,000.

Project Period: September 30, 2010 through September 29, 2011.

Summary: The Administration for Children and Families (ACF), Children's Bureau (CB) announces the award of a single-source program expansion supplement grant to the Research Foundation at the State University of New York (SUNY) at Albany, National Child Welfare Workforce Institute (NCWWI), Albany, NY, to support additional Bachelor's of Social Work (BSW) and Master's of Social Work (MSW) traineeship programs at three universities.

The NCWWI was awarded a cooperative agreement in FY 2008 as the result of a competition. Under the cooperative agreement, NCWWI identifies promising practices in child welfare workforce development, identifies and facilitates leadership training for middle managers and child welfare supervisors, administers BSW and MSW traineeships at multiple universities, engages national peer networks, supports strategic dissemination of effective and promising workforce practices, and advances knowledge through collaboration and evaluation.

As part of the program, NCWWI provides stipend to public and/or non-profit institutions of higher education with accredited social work education programs for traineeships for professional education for current or prospective child welfare practitioners enrolled in BSW or MSW social work programs. During the course of traineeship and after obtaining the degree for which the stipend was awarded, stipend recipients must participate in regular training at a child welfare agency and work for a child welfare agency for a period that is equivalent to the period of the supported traineeship.

The three programs to be awarded traineeships with the expansion supplement award are:

Northeastern State University, Tahlequah, OK. This program provides for a child welfare specialization at the BSW level. Students are recruited from American Indian Tribes for work in Tribal child welfare agencies.

University of South Dakota, Vermillion, SD. The BSW program includes a special emphasis on serving rural and Native American populations. Distance education is being used to reach remote geographic areas.

New Mexico State University, Las Cruces, NM. This combined BSW and MSW program is selecting trainees that are sensitive to Hispanic/Chicano heritage and are Spanish speaking. With special field instructors who can address child welfare skills, Hispanic culture, and the Spanish language, this project is serving an overrepresented population in the child welfare system.

Contact for Further Information: Jane Morgan, Children's Bureau, 1250 Maryland Avenue, SW., Washington, DC 20024. Telephone: 202-205-8807. E-mail: jane.morgan@acf.hhs.gov.

Dated: October 14, 2010.
Bryan Samuels,
Commissioner, Administration on Children, Youth and Families.

[FR Doc. 2010-26936 Filed 10-25-10; 8:45 am]

BILLING CODE 4184-01-P